DEPARTMENT OF EDUCATION

Funding Additional Awards; Research Networks Focused on Critical Problems of Education Policy and Practice Program

AGENCY: Institute of Education Sciences, Department of Education.

ACTION: Notice.

SUMMARY: The Deputy Director for Policy and Research, delegated the duties of the Director, of the Institute of Education Sciences (Institute) announces the Institute's intent to fund three additional grant awards under the Research Networks Focused on Critical Problems of Education Policy and Practice Program, specifically under the Supporting Early Learning from Preschool Through Early Elementary School Grades topic. The Institute takes this action because of the number of high-quality applications received and the fact that funding is available in fiscal year (FY) 2016 to support these additional grant awards. The Institute expects to use an estimated $1.8 million for the three additional awards in FY 2016.

FOR FURTHER INFORMATION CONTACT: Dr. Allen Ruby. Telephone: (202) 219-1591 or by email: Allen.Ruby@ed.gov.

If you use a telecommunications device for the deaf or a text telephone, call the Federal Relay Service, toll free, at 1-800-877-8339.

SUPPLEMENTARY INFORMATION: On April 15, 2015, the Institute published a notice inviting applications in the Federal Register (80 FR 20203) for new awards in FY 2016 under the Research Networks Focused on Critical Problems of Education Policy and Practice Program. The notice indicated that the Institute would award a maximum of four grants under the Supporting Early Learning from Preschool Through Early Elementary School Grades topic but also that this number may be increased through a notice in the Federal Register.

In response to that notice and the accompanying Request for Applications (RFA), the Institute received seven high-quality applications for grants under the Supporting Early Learning from Preschool Through Early Elementary School Grades topic. All seven applications received high scores by peer reviewers. Because sufficient funds are available, the Institute intends to fund all seven applications.

Accessible Format: Individuals with disabilities can obtain this document and a copy of the RFA in an accessible format (e.g., braille, large print, audiotape, or compact disc) on request to the program contact listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at this site.

You may also access documents of the Department published in the Federal Register by using the article search feature at: www.federalregister.gov. Specifically, through the advanced search feature at this site, you can limit your search to documents published by the Department. Catalog of Federal Domestic Assistance (CFDA) Number: 84.305N.

Delegation of Authority: The Secretary of Education has delegated authority to Ruth Neild, Deputy Director for Policy and Research, to perform the functions and duties of the Director for the Institute of Education Sciences.

Program Authority: 20 U.S.C. 9501 et seq.

Dated: December 10, 2015.
Ruth Neild,
Deputy Director for Policy and Research.

[FR Doc. 2015-31517 Filed 12-14-15; 8:45 am]

BILLING CODE 4000-01-P